ENVIRONMENTAL PROTECTION AGENCY

40 CFR Parts 174 and 180

[EPA-HQ-OPP-2015-0032; FRL-9944-86]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before May 25, 2016.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov, or Susan Lewis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summary referenced in this unit.

New Tolerances

1. PP 5F8398. (EPA-HQ-OPP-2015-0735). Valent U.S.A. Corporation, 1600 Riveira Avenue, Suite 200, Walnut Creek, CA 94596, requests to establish a tolerance in 40 CFR part 180 for residues of the insecticide, etoxazole, 2-(2,6-dufluorophenyl)-4-[4-(1,1-dimethyl)-2-ethoxyphenyl]-4,5-dihydrooxazole, in or on soybean at 0.01 parts per million (ppm). The GC/MSD analytical methodology is used to measure and evaluate residues of the chemical etoxazole. Contact: RD.

2. PP 5F8408. EPA-HQ-OPP-2015-0817. OAT Agrio Co., Ltd, 1-3-1 Kanda Ogawa-machi, Chiyoda-ku, Tokyo 101-0052, Japan, requests to establish a tolerance in 40 CFR part 180 for residues of the fungicide, flutianil, in or on apple, fruit at 0.2 parts per million (ppm), apple, juice at 0.03 ppm, apple, wet pomace at 2 ppm, cantaloupe at 0.07 ppm, cherry, fruit at 0.4 ppm, cucumber at 0.02 ppm, grape, fruit at 0.7 ppm, grape, juice at 0.2 ppm, grape, raisins at 0.3 ppm, squash at 0.03 ppm, and strawberry, fruit at 0.3 ppm. The gas chromatography-mass spectrometry detector (GC/MSD) is used to measure and evaluate the chemical flutianil on apples, cantaloupe, cherry, cucumber, squash, and strawberry. The high performance liquid chromatography with tandem mass spectral detection (LCMS/MS) is used to measure and evaluate the chemical flutianil and the metabolite OC-56635 in grapes. Contact: RD.

3. PP 5F8435. EPA-HQ-OPP-2016-0049. E.I. du Pont de Nemours and Company, Inc., Dupont Crop Protection, Stine-Haskell Research Center, P.O. Box 30, Newark, DE 19714-0300, requests to establish a tolerance in 40 CFR part 180.685 for residues of the fungicide, Oxathiapiprolin in or on soybean at 0.01 parts per million (ppm), and sunflower at 0.01 parts per million (ppm). The analytical method using high-pressure liquid chromatography with MS/MS detection is used to measure and evaluate the chemical residues of Oxathiapiprolin. Contact: RD.

4. PP 5F8383. EPA-HQ-OPP-2015-0676. Valent USA Corporation, 1600 Riviera Avenue, Suite 200, Walnut Creek, CA 94596, requests to establish tolerances in 40 CFR part 180.622 for residues of the fungicide Ethaboxam in or on Cucurbit Vegetables (Crop Group 9) at 0.3 parts per million (ppm); ginseng at 0.09 ppm; Pepper/Eggplant (Crop Subgroup 8-10B) at 0.6 ppm; and Tuberous and Corm Vegetable Subgroup 1C at 0.01 ppm. An independently validated analytical method has been submitted for analyzing parent ethaboxam residues with appropriate sensitivity in all crop commodities for which tolerances are being requested. Contact: RD.

5. PP 5F8427. EPA-HQ-OPP-2016-0067. Geo Logic Corporation, P.O. Box 3091, Tequesta, FL 33409, requests to establish a tolerance in 40 CFR part 180 for residues of the bactericide/fungicide streptomycin in or on citrus fruit, Crop Group 10-10 at 0.5 parts per million (ppm) and citrus, dried pulp at 3.5 ppm. The ion-pair reversed-phase liquid chromatography with detection by MS/MS is used to measure and evaluate the chemical streptomycin. Contact: RD.

6. PP 5F8353. EPA-HQ-OPP-2015-0652. Valent USA Corporation, 1600 Riviera Avenue, Suite 200, Walnut Creek, CA 94596, requests to establish tolerances in 40 CFR 180.568 for residues of the herbicide, flumioxazin, 2-[7-fluoro-3,4-dihydro-3-oxo-4-(2-propynyl)-2H-1,4-benzoxazin-6-yl]-4,5,6,7-tetrahydro-1H-isoindole-1,3(2H)-dione, in or on soybean forage at 0.05 parts per million (ppm) and soybean hay at 0.02 ppm. Analytical method RM-30A was used to analyze soybean seed, forage, and hay in support of this petition. RM-30A has been previously validated by EPA. Contact: RD.

7. PP 6F8447. EPA-HQ-OPP-2016-0112. ISK Biosciences Corporation, 7470 Auburn Road, Suite A, Concord, Ohio 44077, requests to establish a tolerance in 40 CFR part 180 for residues of the herbicide, Flazasulfuron, 1-(4,6-dimethoxypyrimidin-2-yl)-3-(3-trifluoromethyl-2-pyridylsulfonyl) urea, in or on the raw agricultural commodity Olive at 0.01 parts per million (ppm). A practical analytical method for flazasulfuron and (1-(4,6-dimethoxypyridin-2-yl)-1-(3-trifluoromethyl-2 pyridyl)urea (DTPU) using liquid chromatography-MS/MS is available for enforcement purposes. The limit of detection is 0.003 ppm. Contact: RD.

8. PP 6E8448. EPA-HQ-OPP-2016-0142. E.I. Dupont de Nemours and Company (Crop Protection), Chestnut Run Plaza, 974 Centre Rd., Wilmington, DE 19805, requests to establish a tolerance in 40 CFR part 180 for residues of the insecticide, triflumezopyrim, in or on rice, grain at 0.2 parts per million (ppm). The LC/ESI-MS/MS method is used to measure and evaluate the chemical 2,4-dioxo-1-(5-pyrimidinylmethyl)-3-[3-(trifluoromethyl)phenyl]-2H-pyrido[1,2-a]pyrimidinium inner salt]. Contact: RD.

New Tolerance Exemptions

1. PP 5F8411. EPA-HQ-OPP-2016-0073. LAM International Corp., 117 South Parkmont, Butte, MT 59701, requests to establish an exemption from the requirement of a tolerance in 40 CFR part 180 for residues of the nematocide Purpureocillium lilacinum strain PL11 in or on all food commodities. The petitioner believes no analytical method is needed because it believes that, when used as proposed, Purpureocillium lilacinum strain PL11 would not result in residues that are of toxicological concern. Contact: BPPD.

2. PP IN-10815. EPA-HQ-OPP-2015-0350. Keller and Heckman, 1001 G Street NW., Suite 500 West, Washington, DC 20001, on behalf of C.P. Kelco U.S., Inc., 3100 Cumberland Blvd., Suite 600, Atlanta, GA 30339, requests to establish an exemption from the requirement of a tolerance for residues of D-glucurono-D-gluco-6-deoxy-L-mannan, acetate, calcium magnesium potassium sodium salt (diutan gum) (CAS Reg. No. 595585-15-2) when used as an inert ingredient in pesticide formulations applied to growing crops and raw agricultural commodities after harvest under 40 CFR 180.910 and for use in antimicrobial formulations (food contact surface sanitizing solutions) under 40 CFR 180.940(a). The petitioner believes no analytical method is needed because it is not required for an exemption from the requirement of a tolerance. Contact: RD.

3. PP IN-10829. EPA-HQ-OOPP-2016-0183. Lewis & Harrison, LLC, 122 C Street NW., Suite 740, Washington, DC 20001, on behalf of BASF Corporation, 100 Park Avenue, Florham Park, NJ 07932, requests to establish an exemption from the requirement of a tolerance for residues of pentaerythritol tetrakis(3-(3,5-di-tert-butyl-4-hydroxyphenyl)propionate) (CAS Reg. No. 6683-19-8) when used as an inert ingredient (antioxidant/stabilizer) at a concentration not to exceed 5% by weight in pesticide formulations applied to growing crops and raw agricultural commodities under 40 CFR 180.910 and at a concentration not to exceed 3% by weight in pesticide formulations applied to animals under in 40 CFR 180.930. The petitioner believes no analytical method is needed because it is not required for an exemption from the requirement of a tolerance. Contact: RD.

4. PP IN-10846. EPA-HQ-OPP-2016-0007. Technology Sciences Group (1150 18th St. NW., Suite 1000, Washington, DC 20036) on behalf of Jeneil Biosurfactant Company, 400 N. Dekora Woods Blvd., Saukville, WI 53080, requests to establish an exemption from the requirement of a tolerance for residues of isobutyl acetate (CAS Reg No. 110-19-0) when used as an inert ingredient (solvent) in pesticide formulations applied in or on raw agricultural commodities and to growing crops under 40 CFR 180.910. The petitioner believes no analytical method is needed because it is not required for an exemption from the requirement of a tolerance. Contact: RD.

5. PP IN-10852. EPA-HQ-OPP-2016-0008. Technology Sciences Group (1150 18th St. NW., Suite 1000, Washington, DC 20036) on behalf of Jeneil Biosurfactant Company, 400 N. Dekora Woods Blvd., Saukville, WI 53080, requests to establish an exemption from the requirement of a tolerance for residues of isobutyric acid (CAS Reg No. 79-31-2) when used as an inert ingredient (solvent) in pesticide formulations applied in or on raw agricultural commodities and to growing crops under 40 CFR 180.910. The petitioner believes no analytical method is needed because it is not required for an exemption from the requirement of a tolerance. Contact: RD.

6. PP IN-10884. EPA-HQ-OPP-2016-0159. Technical Sciences Group, Inc., 1150 18th Street NW., Suite 1000, Washington, DC 20036, on behalf of Bayer HealthCare, LLC, Animal Health, P.O. Box 390, Shawnee Mission, KS 66201-0390, requests to establish an exemption from the requirement of a tolerance for residues of iron oxide yellow (CAS Reg. No. 20344-49-4) when used as an inert ingredient (colorant) in pesticide formulations applied to growing crops and raw agricultural commodities after harvest under 40 CFR 180.910. The petitioner believes no analytical method is needed because it is not required for an exemption from the requirement of a tolerance. Contact: RD.

7. PP IN-10890. EPA-HQ-OPP-2016-0115. Wacker Chemical Corporation, 3301 Sutton Rd., Adrian, ML 49221-9397 requests to establish an exemption from the requirement of a tolerance for siloxanes and silicones, 3-bydroxypropyl Me, ethoxylated (CAS Reg. No. 69430-50-8), when used as an inert ingredient surfactant, antifoaming agent) in pesticide formulations applied to growing crops and raw agricultural commodities after harvest under 40 CFR 180.910. The petitioner believes no analytical method is needed because it is not required for an exemption from the requirement of a tolerance. Contact: RD.

8. PP IN-10899. EPA-HQ-OPP-2016-0118. Celanese Ltd, 222 W Las Colinas Blvd., Suite 900N, Irving, TX 75039, requests to establish an exemption from the requirement of a for residues of 2-propenoic acid, 2-methyl-, 2-oxiranylmethyl ester, polymer with ethene, ethenyl acetate, ethenyltrimethoxysilane and sodium ethenesulfonate (1:1) with a minimum number average mole1cular weight (in amu) of 20,000 (CAS Reg. No. 518057-54-0) when used as an inert ingredient in pesticide formulations under 40 CFR 180.960. The petitioner believes no analytical method is needed because it is not required for an exemption from the requirement of a tolerance. Contact: RD.

9. PP IN-10900. EPA-HQ-OPP-2016-0149. Celanese Ltd., 222 W Las Colinas Blvd., Suite 900N, Irving, TX 75039, requests to establish an exemption from the requirement of a tolerance for residues of 2-propenoic acid, butyl ester, polymer with ethenyl acetate and sodium ethenesulfonate with a minimum number average molecular weight (in amu) of 20,000 (CAS Reg. No. 66573-43-1) when used as an inert ingredient in pesticide formulations under 40 CFR 180.960. The petitioner believes no analytical method is needed because it is an inert ingredient exempt from a tolerance. Contact: RD.

Amended Tolerances

1. PP 5F8427. EPA-HQ-OPP-2016-0067. Geo Logic Corporation, P.O. Box 3091, Tequesta, FL 33409, requests to amend the tolerances in 40 CFR 180.245 for residues of the bactericide/fungicide streptomycin by removing tolerances in or on grapefruit at 0.15 parts per million (ppm) and grapefruit, dried pulp at 0.40 ppm. The ion-pair reversed-phase liquid chromatography with detection by MS/MS is used to measure and evaluate the chemical streptomycin. Contact: RD.

2. PP IN-10858. EPA-HQ-OPP-2016-0121. Drexel Chemical Company, P.O. Box 13327, Memphis, TN 38113-03227, requests to amend the tolerance in 40 CFR 180.469 for residues of dichlormid (CAS Reg. No. 37764-25-3), when used as an inert ingredient (herbicide safener) in pesticide formulations to include tolerances at 0.05 part per million (ppm) for all commodities for which there are tolerances for the active ingredients metolachlor and s-metolachlor (40 CFR 180.368). Gas Chromatography Mass Spectrometry (GC-MS) with nitrogen selective thermionic detection is used to measure and evaluate the chemical dichlormid. Contact: RD.

Amended Tolerance Exemptions

1. PP 5F8407. EPA-HQ-OPP-2015-0811. DSM Food Specialties B.V., P.O. Box 1, 2600 MA Delft, The Netherlands (c/o Keller and Heckman, LLP 1001 G. St. NW., Washington, DC 20001), requests to amend an exemption from the requirement of a tolerance in 40 CFR 180.1315 for residues of the fungistat natamycin by adding in or on citrus, pome, and stone fruit crop groups; avocado; kiwi; mango; and pomegranate when applied as a fungistat in accordance with label directions and good agricultural practices. The petitioner believes no analytical method is needed because the petition is for an exemption from the requirement of a tolerance without any numerical limitation. Further, residues are not expected on any other crops because natamycin will only be applied indoors to these particular crops. Contact: BPPD.

2. PP 5F8438. EPA-HQ-OPP-2016-0032. Valent BioSciences Corp., 870 Technology Way, Libertyville, IL 60048, requests to amend an exemption from the requirement of a tolerance in 40 CFR 180.1189 for residues of the biochemical pesticide methyl salicylate by adding in or on all agricultural commodities. The petitioner believes no analytical method is needed because the petitioner has validated residue methods in both tomato and pepper. The analytical method for the assay of methyl salicylate and salicylic acid is by gas chromatography with mass-selective detection. Methyl salicylate will not result in residues that are of toxicological concern, as the residue studies clearly show only natural background levels of methyl salicylate and its metabolite (salicylic acid) after applications, even at time zero. Contact: BPPD.

Amended Tolerance Exemption for Plant Incorporated Product

PP 5F8425. EPA-HQ-OPP-2014-0457. J.R. Simplot Co., 5369 W. Irving St., Boise, ID 83706, requests to amend an exemption from the requirement of a tolerance in 40 CFR 174.534 for residues of the plant-incorporated protectant (PIP) VNT1 protein in or on potato by converting a currently existing temporary tolerance exemption to a permanent tolerance exemption. The petitioner believes no analytical method is needed because it is seeking an exemption from the requirement of a tolerance. Contact: BPPD.

Authority: 21 U.S.C. 346a.

Dated: April 18, 2016.
Susan Lewis,
Director, Registration Division, Office of Pesticide Programs.

[FR Doc. 2016-09559 Filed 4-22-16; 8:45 am]

BILLING CODE 6560-50-P